DEPARTMENT OF COMMERCE

National Oceanic and Atmospheric Administration

[RTID 0648-XC764]

North Pacific Fishery Management Council; Public Meeting

AGENCY: National Marine Fisheries Service (NMFS), National Oceanic and Atmospheric Administration (NOAA), Commerce.

ACTION: Notice of hybrid meeting.

SUMMARY: The North Pacific Fishery Management Council (Council) Bering Sea Fishery Ecosystem Plan Climate Change Taskforce (BSFEP CC) will meet March 1, 2023 through March 2, 2023.

DATES: The meeting will be held on Wednesday, March 1, 2023, from 9 a.m. to 5 p.m. and on Thursday, March 2, 2023, from 9 a.m. to 12 p.m. Pacific Time.

ADDRESSES: The meetings will be a hybrid meeting. The in-person component of the meeting will be held at the Alaska Fisheries Science Center in the room 2039, 7600 Sand Point Way NE, Building 4, Seattle, WA 98115, or join online through the link at https://meetings.npfmc.org/Meeting/Details/2979.

Council address: North Pacific Fishery Management Council, 1007 W 3rd Ave, Anchorage, AK 99501-2252; telephone: (907) 271-2809. Instructions for attending the meeting are given under SUPPLEMENTARY INFORMATION below.

FOR FURTHER INFORMATION CONTACT: Dr. Diana Stram, Council staff; phone: (907) 271-2809 and email: diana.stram@noaa.gov. For technical support, please contact our administrative staff; email: npfmc.admin@noaa.gov.

SUPPLEMENTARY INFORMATION:

Agenda

Wednesday, March 1, 2023 Through Thursday, March 2, 2023

The agenda will include: (a) review changes to climate readiness synthesis from the SSC; (b) discuss concept of soliciting stakeholder input on climate resilient metrics; (c) review ongoing process for incorporating climate information into council process and future plans; (d) discuss and recommend agenda, format and goals and objectives for scenario planning workshop; (e) work plan for 2023-2024; and (f) other business. The agenda is subject to change, and the latest version will be posted at https://meetings.npfmc.org/Meeting/Details/2979 prior to the meeting, along with meeting materials.

Connection Information

You can attend the meeting online using a computer, tablet, or smart phone; or by phone only. Connection information will be posted online at: https://meetings.npfmc.org/Meeting/Details/2979.

Public Comment

Public comment letters will be accepted and should be submitted electronically to https://meetings.npfmc.org/Meeting/Details/2979.

Authority: 16 U.S.C. 1801 et seq.

Dated: February 8, 2023.
Rey Israel Marquez,
Acting Deputy Director, Office of Sustainable Fisheries, National Marine Fisheries Service.

[FR Doc. 2023-03068 Filed 2-13-23; 8:45 am]

BILLING CODE 3510-22-P